DEPARTMENT OF LABOR

Bureau of Labor Statistics

Information Collection Activities; Comment Request

AGENCY: Bureau of Labor Statistics, Department of Labor.

ACTION: Notice of information collection, request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the revision of the “The Consumer Expenditure Surveys: The Quarterly Interview and the Diary.” A copy of the proposed information collection request (ICR) can be obtained by contacting the individual listed below in the ADDRESSES section of this notice.

DATES: Written comments must be submitted to the office listed in the Addresses section of this notice on or before August 10, 2020.

ADDRESSES: Send comments to Nora Kincaid, BLS Clearance Officer, Division of Management Systems, Bureau of Labor Statistics, Room 4080, 2 Massachusetts Avenue NE, Washington, DC 20212. Written comments also may be transmitted by email to BLS_PRA_Public@bls.gov.

FOR FURTHER INFORMATION CONTACT: Nora Kincaid, BLS Clearance Officer, at 202-691-7628 (this is not a toll free number). (See ADDRESSES section.)

SUPPLEMENTARY INFORMATION:

I. Background

The Consumer Expenditure (CE) Surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) for CPI revisions, (2) to provide a continuous flow of data on income and expenditure patterns for use in economic analysis and policy formulation, and (3) to provide a flexible consumer survey vehicle that is available for use by other Federal Government agencies. Public and private users of price statistics, including Congress and the economic policymaking agencies of the Executive branch, rely on data collected in the CPI in their day-to-day activities. Hence, data users and policymakers widely accept the need to improve the process used for revising the CPI. If the CE Surveys were not conducted on a continuing basis, current information necessary for more timely, as well as more accurate, updating of the CPI would not be available. In addition, data would not be available to respond to the continuing demand from the public and private sectors for current information on consumer spending.

In the Quarterly Interview Survey, each consumer unit (CU) in the sample is interviewed every three months over four calendar quarters. The sample for each quarter is divided into three panels, with CUs being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Current Action

Office of Management and Budget clearance is being sought for the revision of the Consumer Expenditure Surveys: The Quarterly Interview and the Diary.

The continuing CE Surveys provide a constant measurement of changes in consumer expenditure patterns for economic analysis and obtain data for future CPI revisions.

In the CEQ, CE is seeking clearance to make the following changes: A question will be added on the number of members covered by Tricare; the term Keoghs will be removed from the question on retirement accounts and replaced with more commonly used terms; Virginia will be added to the drop down list of states on the Medicaid questions; e-scooters will be added as an example to bike-share; audio and video expenditure item codes will be consolidated; school books will be separated from school supplies and equipment item codes; several detailed clothing items will be converted to global questions and the remaining clothing item codes will be reorganized.

The CEQ added questions regarding stimulus payments paid by the Federal government under OMB clearance number 1220-0196 as an emergency clearance request. This expiration on this clearance expires on November 30, 2020. CE plans to continue asking these questions through December of 2020 and seeks clearance with this request to retain until this date. If it is determined the questions are needed beyond December a nonsubstantive change request will be submitted to retain them for a longer period. The CED uses both a CAPI instrument and the paper Diary CE-801, Record of Your Daily Expenses. In the CED CAPI instruments, the term Keoghs will be removed from the question on retirement accounts and replaced with more commonly used terms. In the Diary, in order to accommodate CPI's need for point of purchase collection, a column will be added to the clothing section to collect the store name or website where the item was purchased. Additionally, in order to avoid anticipated data collection issues, minor changes will be made to the sample.

Lastly, to limit exposure of staff and respondents in response to the coronavirus pandemic, procedures for the CEQ and CED will be modified on an as needed basis. In CED, these modifications will include emailing a link to a Diary form, telephone transcription of expenditures from the Diary, and the availability of an online Diary. In CEQ, these modifications will include telephone interiews in lieu of in-person interviews.

These letters explain the nature of the information the BLS wants to collect and the uses of the CEQ or the CED data, as appropriate; informs the respondents of the confidential treatment of all identifying information they provide; requests the respondents' participation in the survey; describes the survey's compliance with the relevant provisions of the Privacy Act and the Office of Management and Budget (OMB) disclosure requirements; and provide a link to the address of the respondent's informational web page. The advance letters for the CEQ will be updated to reflect changes in the estimated time to complete the interview with the removal of the clothing section. Each of the advance letters and several of the brochures in the portfolio are available in the following languages: Arabic, Chinese, Korean, Spanish, Russian, Vietnamese, and Polish.

For both CEQ and CED, additional wording will be added to the CAPI instruments regarding receipt of the advance letter in order to ensure communication of the confidentiality and Paperwork Reduction Act statements to respondents who may not have received the advanced letter due to disruptions related to the coronavirus pandemic.

A full list of the proposed changes to the Quarterly Interview Survey and Diary Survey are available upon request.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: The Consumer Expenditure Surveys: The Quarterly Interview and the Diary.

OMB Number: 1220-0050.

Type of Review: Revision.

Affected Public: Individuals or Households.

Form | Total respondents | Frequency | Total responses | Average time per response (minutes) | Estimated total burden
CEQ—Interview | 6,015 | 4 | 24,060 | 67 | 26,867
CEQ—Reinterview | 2,887 | 1 | 2,887 | 10 | 481
CED—Diary (record-keeping) | 7,535 | 2 | 15,070 | 70 | 17,582
CED—Diary (Interview) | 7,535 | 2.3 | 17,332 | 19 | 5,488
CED—Diary (Reinterview) | 1,507 | 1 | 1,507 | 10 | 251
Totals |  |  | 60,856 |  | 50,669

Comments submitted in response to this notice will be summarized and/or included in the request for Office of Management and Budget approval of the information collection request; they also will become a matter of public record.

Signed at Washington, DC, this 5th day of June 2020.
Mark Staniorski,
Chief, Division of Management Systems.

[FR Doc. 2020-12629 Filed 6-10-20; 8:45 am]

BILLING CODE 4510-24-P